DEPARTMENT OF THE INTERIOR

Fish and Wildlife Service

[Docket No. FWS-HQ-IA-2025-0375; FXIA16710900000-256-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Information about the applications for the permits listed in this notice is available online at https://www.regulations.gov. See SUPPLEMENTARY INFORMATION for details.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Service, have issued permits to conduct certain activities with endangered and threatened species in response to permit applications that we received under the authority of section 10(a)(1)(A) of the ESA of 1973 (16 U.S.C. 1531 et seq.)

After considering the information submitted with each permit application and the public comments received, we issued the requested permits subject to certain conditions set forth in each permit. For each application for an endangered species, we found that (1) the application was filed in good faith, (2) the granted permit will not operate to the disadvantage of the endangered species, and (3) the granted permit will be consistent with the purposes and policy set forth in section 2 of the ESA.

Availability of Documents

The permittees' original permit application materials, along with public comments we received during public comment periods for the applications, are available for review. To locate the application materials and received comments, go to https://www.regulations.gov and search for the appropriate permit number (e.g., 12345C) provided in the following table:

Endangered Species

ePermits No. | Applicant | Permit issuance date
PER11662205 | University of Michigan | December 9, 2024.
PER10468252 | Wild Wonders | December 11, 2024.
PER13078805 | Mark Fitzgibbons | December 11, 2024.
PER13187291 | Jeffrey Hoffman | December 12, 2024.
PER13187274 | Ryan Welsh | December 12, 2024.
PER13301853 | Alan Freilich | December 12, 2024.
PER13300131 | Tanganyika Wildlife Park | December 16, 2024.
PER12823530 | Nashville Zoo at Grassmere | December 16, 2024.
PER12097590 | Zoological Society of San Diego | December 16, 2024.
PER12378636 | Field Museum of Natural History | December 16, 2024.
PER12843861 | Great Plains Zoo | December 17, 2024.
PER12856256 | Sycamore Creek Ranch | December 17, 2024.
PER12856289 | Sycamore Creek Ranch | December 17, 2024.
PER12651951 | Paula N. Hansen | December 31, 2024.
PER10793987 | Lowry Park Zoological Society of Tampa, Inc | December 31, 2024.
PER13556893 | Cleveland Metroparks Zoo | January 23, 2025.
PER13957023 | Recordbuck Ranch | January 23, 2025.
PER13967618 | Recordbuck Ranch | January 23, 2025.
PER11845142 | Los Angeles Zoo | January 23, 2025.
PER8478987 | International Elephant Foundation | January 29, 2025.
PER13372478 | Todd Harmon | February 4, 2025.
PER13371204 | Adam Hall | February 4, 2025.
PER13373724 | James Hall | February 4, 2025.
PER13374211 | Jason Soulliere | February 4, 2025.
PER13186673 | Metro Richmond Zoo | February 12, 2025.
PER11682955 | Dallas World Aquarium | February 19, 2025.
PER12805698 | Douglas Milkey | February 25, 2025.
PER13300408 | Susan Hayes | February 27, 2025.
PER13300406 | Claude Hayes | March 3, 2025.
PER13158305 | Columbian Park Zoo | March 10, 2025.
PER11738565 | Duke University | March 26, 2025.
PER15020210 | East Coast Zoological Society of Florida, Inc dba Brevard Zoo | April 29, 2025.
PER17273062 | Lake Superior Zoo | April 29, 2025.
PER13774849 | Kerry Jones | April 30, 2025.
PER13774784 | Guy Gelakoski | April 30, 2025.
PER13800404 | Jesse D. Palmer | April 30, 2025.
PER13784424 | Michael Anderson | April 30, 2025.
PER14686956 | Rody Best | May 1, 2025.
PER13883087 | University of Kansas Biodiversity Institute | May 1, 2025.
PER14490624 | Natural History Museum of Los Angeles County | May 1, 2025.
PER14703291 | Robert Harry Wallace | May 1, 2025.
PER14688086 | Eric Vaillancourt | May 5, 2025.
PER17449908 | Lance Craig Brewer | May 5, 2025.
PER15798029 | David Lee Ristau | May 5, 2025.
PER14727438 | Curtis Richardson | May 5, 2025.
PER13884218 | University of Wyoming Museum of Vertebrates | May 12, 2025.
PER16035616 | City of San Jose dba Happy Hollow Park & Zoo | May 15, 2025.
PER12792731 | Jacksonville Zoo and Gardens | May 15, 2025.
PER13945221 | East Texas Ranch D/B/A dba Lazy W Ranch | May 16, 2025.
PER13944433 | East Texas Ranch/dba Lazy W Ranch | May 16, 2025.
PER14456509 | John Seymour | May 16, 2025.
PER14455200 | John Seymour | May 16, 2025.
PER14465364 | HPCP Investments LLC | May 16, 2025.
PER14466891 | HPCP Investments LLC | May 16, 2025.
PER14365331 | U.S. Fish and Wildlife Service, Michigan Field Office | May 19, 2025.
PER12713734 | Texas A&M University College Station | May 20, 2025.
PER19078842 | Joshua Prewett | July 9, 2025.
PER12124015 | Cornell University Museum of Vertebrates | July 10, 2025.
PER13968163 | Phoenix Herpetological Sanctuary | July 10, 2025.
PER13890062 | Marra Lab, Georgetown University | July 10, 2025.

Authorities

We issue this notice under the authority of the ESA, as amended (16 U.S.C. 1531 et seq.), and their implementing regulations.

Timothy MacDonald,
Government Information Specialist, Branch of Permits, Division of Management Authority.

[FR Doc. 2026-01795 Filed 1-28-26; 8:45 am]

BILLING CODE 4333-15-P